DEPARTMENT OF THE INTERIOR

National Park Service

[NPS-WASO-NAGPRA-NPS0039768; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and has determined that there is a cultural affiliation between the human remains and Indian Tribes or Native Hawaiian organizations in this notice.

DATES: Repatriation of the human remains in this notice may occur on or after April 28, 2025.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, one individual have been identified. No associated funerary objects are present. This individual was removed from the Bond/Bond's Village site, 22TU530, located in Tunica County, MS. Between May 6 and November 1, 1968, human remains and cultural items were removed from the Bond Village site after the Mississippi Archaeological Association (MAA) received reports of disturbance to the site from farming. John Connaway, Mississippi Archaeology Survey (MAS), oversaw excavations, which were funded partially by the MAA. Subsequent review of ceramic styles from the Bond Village site suggests a Mississippian occupation (c. 1050-1400 CE) of the site.

The circumstances that brought this individual to UTK are currently unknown, but available records indicate that William Bass (UTK) examined some of the individuals removed in the 1968 excavations directed by Connaway. Based on past patterns of behavior, it is likely that this individual was retained by Bass at UTK, while the other individuals from this site were most likely housed elsewhere, likely at MDAH or elsewhere in Mississippi. To our knowledge, the human remains described in this notice were not treated with any potentially hazardous substances.

Cultural affiliation between these human remains and the Indian Tribe listed in this notice was established via anthropological information, archaeological information, geographical information, historical information, Native American Traditional Knowledge, and oral tradition. Tunica County, MS, is part of lands ceded to the United States by the Chickasaw, as recorded in, Treaty with the Chickasaw, 1832.

Cultural Affiliation

Based on the information available and the results of consultation, cultural affiliation is clearly identified by the information available about the human remains described in this notice.

Determinations

UTK has determined that:

• The human remains described in this notice represent the physical remains of one individual of Native American ancestry.

• There is a connection between the human remains described in this notice and The Chickasaw Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 28, 2025. If competing requests for repatriation are received, UTK must determine the most appropriate requestor prior to repatriation. Requests for joint repatriation of the human remains are considered a single request and not competing requests. UTK is responsible for sending a copy of this notice to the Indian Tribes and Native Hawaiian organizations identified in this notice.

Authority: Native American Graves Protection and Repatriation Act, 25 U.S.C. 3003, and the implementing regulations, 43 CFR 10.10.

Dated: March 17, 2025.
Melanie O'Brien,
Manager, National NAGPRA Program.

[FR Doc. 2025-05221 Filed 3-26-25; 8:45 am]

BILLING CODE 4312-52-P